Title 3—

The President

Proclamation 8772 of December 30, 2011

National Slavery and Human Trafficking Prevention Month, 2012

By the President of the United States of America

A Proclamation

Nearly a century and a half ago, President Abraham Lincoln issued the Emancipation Proclamation—a document that reaffirmed the noble goals of equality and freedom for all that lie at the heart of what it means to live in America. In the years since, we have tirelessly pursued the realization and protection of these essential principles. Yet, despite our successes, thousands of individuals living in the United States and still more abroad suffer in silence under the intolerable yoke of modern slavery. During National Slavery and Human Trafficking Prevention Month, we stand with all those who are held in compelled service; we recognize the people, organizations, and government entities that are working to combat human trafficking; and we recommit to bringing an end to this inexcusable human rights abuse.

Human trafficking endangers the lives of millions of people around the world, and it is a crime that knows no borders. Trafficking networks operate both domestically and transnationally, and although abuses disproportionally affect women and girls, the victims of this ongoing global tragedy are men, women, and children of all ages. Around the world, we are monitoring the progress of governments in combating trafficking while supporting programs aimed at its eradication. From forced labor and debt bondage to forced commercial sexual exploitation and involuntary domestic servitude, human trafficking leaves no country untouched. With this knowledge, we rededicate ourselves to forging robust international partnerships that strengthen global anti-trafficking efforts, and to confronting traffickers here at home.

My Administration continues to implement our comprehensive strategy to combat human trafficking in America. By coordinating our response across Federal agencies, we are working to protect victims of human trafficking with effective services and support, prosecute traffickers through consistent enforcement, and prevent human rights abuses by furthering public awareness and addressing the root causes of modern slavery. The steadfast defense of human rights is an essential part of our national identity, and as long as individuals suffer the violence of slavery and human trafficking, we must continue the fight.

With the start of each year, we commemorate the anniversaries of the Emancipation Proclamation, which became effective on January 1, 1863, and the 13th Amendment to abolish slavery, which was signed by President Abraham Lincoln and submitted to the States for ratification on February 1, 1865. These documents stand as testaments to the gains we have made in pursuit of freedom and justice for all, and they remind us of the work that remains to be done. This month, I urge all Americans to educate themselves about all forms of modern slavery and the signs and consequences of human trafficking. Together, and in cooperation with our partners around the world, we can work to end this terrible injustice and protect the rights to life and liberty entrusted to us by our forebears and owed to our children.

NOW, THEREFORE, I, BARACK OBAMA, President of the United States of America, by virtue of the authority vested in me by the Constitution and the laws of the United States, do hereby proclaim January 2012 as National Slavery and Human Trafficking Prevention Month, culminating in the annual celebration of National Freedom Day on February 1. I call upon the people of the United States to recognize the vital role we can play in ending modern slavery and to observe this month with appropriate programs and activities.

IN WITNESS WHEREOF, I have hereunto set my hand this thirtieth day of December, in the year of our Lord two thousand eleven, and of the Independence of the United States of America the two hundred and thirty-sixth.

[FR Doc. 2012-188

Filed 1-5-12; 11:15 am]

Billing code 3295-F2-P